FEDERAL COMMUNICATIONS COMMISSION

47 CFR Part 63

[GN Docket No. 13-5, WC Docket No. 05-25; Report No. 3035]

Petition for Reconsideration of Action in a Rulemaking Proceeding

AGENCY: Federal Communications Commission.

ACTION: Petition for reconsideration.

SUMMARY: In this document, a Petition for Reconsideration (Petition) has been filed in the Commission's Rulemaking Proceeding by Tamar E. Finn, on behalf of U.S. TelePacific Corp.

DATES: Oppositions to the Petition must be filed on or before December 28, 2015. Replies to an opposition must be filed on or before January 5, 2016.

ADDRESSES: Federal Communications Commission, 445 12th Street SW., Washington DC 20554.

FOR FURTHER INFORMATION CONTACT: Michele Levy Berlove, Wireline Competition Bureau, 202-418-1477, michele.berlove@fcc.gov.

SUPPLEMENTARY INFORMATION: This is a summary of the Commission's document, Report No. 3035, released December 4, 2015. The full text of the Petition is available for viewing and copying at the FCC Reference Information Center, 445 12th Street SW., Room CY-A257, Washington, DC 20554, or may be accessed online via the Commission's Electronic Comment Filing System at http://apps.fcc.gov/ecfs/. The Commission will not send a copy of this Notice pursuant to the Congressional Review Act, 5 U.S.C. 801(a)(1)(A) because this notice does not have an impact on any rules of particular applicability.

While the petition is styled a petition for clarification, at least one of the forms of relief it seeks may require a modification to the Commission's rules. As a result, the Commission's Wireline Competition Bureau has determined that the petition is more properly treated as a petition for reconsideration, for the purpose of seeking public input.

Subject: Technology Transitions; Policies and Rules Governing Retirement of Copper Loops by Incumbent Local Exchange Carriers; Special Access for Price Cap Local Exchange Carriers; AT&T Corporation Petition for Rulemaking to Reform Regulation of Incumbent Local Exchange Carrier Rates for Interstate Special Access Services, published at 80 FR 63322, October 19, 2015, in GN Docket No. 13-5, WC Docket No. 05-25, FCC 15-97. This Notice is published pursuant to 47 CFR 1.429(e). See also 47 CFR 1.4(b)(1).

Number of Petitions Filed: 1.

Federal Communications Commission.
Gloria J. Miles,
Federal Register Liaison Officer, Office of the Secretary.

[FR Doc. 2015-31265 Filed 12-10-15; 8:45 am]

BILLING CODE 6712-01-P